DEPARTMENT OF COMMERCE

National Oceanic and Atmospheric Administration

Federal Consistency Appeal by Foothill/Eastern Transportation Corridor Agency

AGENCY: National Oceanic and Atmospheric Administration (NOAA), Department of Commerce (Commerce).

ACTION: Notice of stay—closure of administrative appeals decision record.

SUMMARY: This announcement provides notice that the Secretary of Commerce has stayed, for a period of 60 days, closure of the decision record in an administrative appeal filed by Foothill/Eastern Transportation Corridor Agency and its Board of Directors (TCA).

DATES: The decision record for the Foothill/Eastern Transportation Corridor Agency Consistency Appeal will now close on October 24, 2008.

ADDRESSES: Office of the General Counsel for Ocean Services, National Oceanic and Atmospheric Administration, U.S. Department of Commerce, 1305 East-West Highway, Silver Spring, MD 20910.

FOR FURTHER INFORMATION CONTACT: Thomas Street or Gladys Miles, Attorney-Advisors, Office of the General Counsel, via e-mail at gcos.inquiries@noaa.gov, or at (301) 713-2967.

SUPPLEMENTARY INFORMATION: On February 15, 2008, TCA filed notice of an appeal with the Secretary of Commerce (Secretary), pursuant to the Coastal Zone Management Act of 1972 (CZMA), 16 U.S.C. 1451 et seq., and implementing regulations found at 15 C.F.R. Part 930, Subpart H. TCA appealed an objection to its construction of an extension to California State Route 241 in northern San Diego and southern Orange Counties, California.

Under the CZMA, the Secretary must close the decision record in an appeal 160 days after the notice of appeal is published in the Federal Register. 16 U.S.C. 1465. However, the CZMA authorizes the Secretary to stay closing the decision record for up to 60 days when the Secretary determines it necessary to receive, on an expedited basis, any supplemental information specifically requested by the Secretary to complete a consistency review or any clarifying information submitted by a party to the proceeding related to information in the consolidated record compiled by the lead Federal permitting agency. 16 U.S.C. 1465(b)(3).

The decision record is currently scheduled to close on August 25, 2008. After reviewing the decision record developed to date, the Secretary has decided to solicit supplemental and clarifying information. In order to allow receipt of this information, the Secretary hereby stays closure of the decision record until October 24, 2008.

Additional information about the TCA Consistency Appeal and the CZMA appeals process is available from the Department of Commerce CZMA appeals Web site http://www.ogc.doc.gov/czma.htm.

Dated: August 20, 2008.
Joel La Bissonniere,
Assistant General Counsel for Ocean Services.

(Federal Domestic Assistance Catalog No. 11.419 Coastal Zone Management Program Assistance.)

[FR Doc. E8-19667 Filed 8-22-08; 8:45 am]

BILLING CODE 3510-08-P